DEPARTMENT OF AGRICULTURE

Agricultural Research Service

DEPARTMENT OF COMMERCE

National Oceanic and Atmospheric Administration

RIN 0648-XC007

Joint Subcommittee on Aquaculture Research and Development Strategic Plan

AGENCIES: Agricultural Research Service (ARS), U.S. Department of Agriculture (USDA); National Marine Fisheries Service (NMFS), National Oceanic and Atmospheric Administration (NOAA), Commerce.

ACTION: Notice of availability and request for comments.

SUMMARY: NOAA and U.S. Department of Agriculture Agricultural Research Service (USDA-ARS) announce on behalf of the Federal Interagency Working Group on Aquaculture under the Office of Science and Technology Policy that a draft National Aquaculture Research and Development Strategic Plan (R&D Plan) for the United States is being made available for public review and comment. This plan will provide a framework for federal agencies to develop programs for research and development that affect the production of aquatic organisms such as finfish, crustaceans, mollusks, and algae. We are soliciting public comment in regard to priorities, vision, and goals. Please be specific regarding what section or content in the R&D plan your comment refers. The draft R&D plan can be found at http://www.ars.usda.gov/research/programs/programs.htm?np_code=106&docid=22641.

DATES: Written comments must be received by 5 p.m. Eastern Standard Time (EST), August 27, 2012.

ADDRESSES: You may submit comments on this action identified by NOAA-NMFS-2012-0136 by either of the following methods:

• Electronic Submission: Submit all electronic public comments via the federal e-Rulemaking Portal, http://www.regulations.gov. To submit comments via the e-Rulemaking Portal, first enter NOAA-NMFS-2012-0136 in the keyword search. Locate the document you wish to comment on from the resulting list and click on the “Submit a Comment” icon on that line. You may also view supporting and related materials. All comments received are a part of the public record and will generally be posted to http://www.regulations.gov without change. All personal identifying information (for example, name, address, etc.) voluntarily submitted by the commenter may be publicly accessible. Do not submit confidential business information or otherwise sensitive or protected information. The agency will accept anonymous comments (enter “N/A” in the required fields, if you wish to remain anonymous). You may submit attachments to electronic comments in Microsoft Word, Excel, WordPerfect, or Adobe PDF file formats only.

• Mail/Commercial Delivery: Please send two copies of your comment to RIN 0648-XC007, Dr. Jeff Silverstein, USDA-ARS, National Program Leader-Aquaculture, 5601 Sunnyside Ave., Room 4-2106, Beltsville, MD 20705. Please state that your comment refers to RIN 0648-XC007.

FOR FURTHER INFORMATION CONTACT: ARS: Dr. Jeffrey Silverstein, National Program Leader for Aquaculture, USDA-ARS Office of National Programs, 5601 Sunnyside Ave., Room 4-2106, Beltsville, MD 20705; (301) 504-5925. NMFS: Dr. Michael Rubino, Director, Office of Aquaculture, NOAA Fisheries, 1315 East-West Hwy, SSMC#3 Rm. 13137, Silver Spring, MD 20910; (301) 427-8325. To receive a hard copy of the R&D Plan please contact Dr. Jeff Silverstein.

SUPPLEMENTARY INFORMATION: Aquaculture is the production of finfish, shellfish, algae, plants, and other aquatic organisms (except mammals and birds) for (1) food and other commercial products; (2) wild stock replenishment for commercial or recreational fisheries; (3) rebuilding populations of threatened or endangered species under species recovery and conservation plans; and (4) restoration and conservation of aquatic and marine habitat.

The National Aquaculture Act (Pub. L. 96-362, 94 Stat. 1198, 16 U.S.C. 2801, et seq.) and the National Aquaculture Improvement Act (Pub. L. 99-198, 99 Stat. 1641) were passed to promote aquaculture in the Nation by:

1. Declaring a national aquaculture policy to encourage development of aquaculture in the United States,

2. Calling for the establishment and implementation of a national aquaculture development plan, and

3. Encouraging aquaculture activities and programs in both the public and private sectors of the economy that will result in increased aquacultural production, coordination of domestic aquaculture efforts, conservation and enhancement of aquatic resources, and creation of new industries and job opportunities.

The legislation emphasizes the need for government-wide coordination of national activities regarding aquaculture. To this end, it established a federal interagency aquaculture coordinating group within the Office of Science and Technology Policy that operates as the Joint Subcommittee on Aquaculture (JSA).

The JSA prepared an R&D Plan to help shape, focus, and coordinate interagency research and development efforts on the highest-priority strategic goals and crosscutting objectives over 5-10 years that will encourage aquaculture development and uses in the Nation.

The JSA R&D Plan envisions “a globally competitive, technologically appropriate, and diverse aquaculture sector in the United States that meets increasing demand for seafood and products that are affordable and meet high standards for safety, quality, and environmental stewardship, with maximum opportunity for profitability and economic growth. A critical element of this vision is that the aquaculture sector develops in concert with, natural ecosystems that support recreational, fishery, and environmental services needs.”

The R&D Plan identifies nine strategic goals:

1. Advance Integration of Aquaculture Development and Environmental Conservation.

2. Employ Genetics to Increase Productivity and Protect Natural Populations.

3. Improve Aquatic Animal Health.

4. Improve Production Efficiency and Well-being.

5. Improve Nutrition and Develop Novel Feeds.

6. Increase Supply of Nutritious, Safe, High-quality Seafood.

7. Introduce Innovative Production Systems.

8. Create Skilled Workforce and Effective Technology Transfer.

9. Integrate Economic and Social Sciences.

Each goal, along with its outcomes, milestones, and performance measures, is described in detail within the R&D Plan.

Dated: July 9, 2012.
Michael Rubino,
Director, Office of Aquaculture, National Oceanic and Atmospheric Administration, National Marine Fisheries Service.
Dated: July 2, 2012.
Jeffrey Silverstein,
National Program Leader for Aquaculture, USDA-ARS Office of National Programs.

[FR Doc. 2012-17051 Filed 7-11-12; 8:45 am]

BILLING CODE 3510-22-P